DEPARTMENT OF STATE

[Public Notice: 9608]

30-Day Notice of Proposed Information Collection: ECA Exchange Student Surveys

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: The Department will accept comments from the public up to July 18, 2016.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: (202) 395-5806. Attention: Desk Officer for Department of State.

You must include the DS form number, information collection title, and the OMB control number in any correspondence.

FOR FURTHER INFORMATION CONTACT: Direct requests for additional information regarding the collection listed in this notice, including requests for copies of the proposed collection instrument and supporting documents, to Andrej Kolaja who may be reached on (202) 632-6412 or at kolajaag@state.gov.

SUPPLEMENTARY INFORMATION:

• Title of Information Collection: ECA Exchange Student Surveys.

• OMB Control Number: 1405-0210.

• Type of Request: Revision of a Currently Approved Collection.

• Originating Office: Educational and Cultural Affairs (ECA/PE/C/PY).

• Form Number: SV2012-0007.

• Respondents: Exchange students from foreign countries and the United States participating in Department of State sponsored programs from 2016-2019.

• Estimated Number of Respondents: 1800 annually.

• Estimated Number of Responses: 1800 annually.

• Average Time per Response: 15 minutes.

• Total Estimated Burden Time: 450 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: This collection of information is under the provisions of the Mutual Educational and Cultural Exchange Act, as amended, and the Exchange Visitor Program regulations (22 CFR part 62), as applicable. The information collected will be used by the Department to ascertain whether there are any issues that would affect the safety and well-being of exchange program participants.

Methodology: The survey will be sent electronically via the Survey Monkey tool and responses collected electronically. If a respondent requests a paper version of the survey it will be provided.

Additional information: Form SV2012-0010 (OMB Control Number 1405-0210) is being discontinued. It was intended to serve as a survey for American students overseas but it was never used and will not be used in the future.

Dated: June 9, 2016.
Bruce Armstrong,
Director, Office of Citizen Exchanges, Bureau of Educational and Cultural Affairs, Department of State.

[FR Doc. 2016-14289 Filed 6-15-16; 8:45 am]

BILLING CODE 4710-05-P